DEPARTMENT OF COMMERCE

National Oceanic and Atmospheric Administration

[RTID 0648-XA600]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a public hearing via webinar to discuss Reef Fish Amendment 48—Amendment Reef Fish 48/Red Drum 5: Status Determination Criteria and Optimum Yield for Reef Fish and Red Drum.

DATES: The webinar will be held on Tuesday, November 17, 2020, 6 p.m. EST; and will conclude no later than 8 p.m.

ADDRESSES: The public hearing will be held via webinar.

Council address: Gulf of Mexico Fishery Management Council, 4107 W Spruce Street, Suite 200, Tampa, FL 33607; telephone: (813) 348-1630.

FOR FURTHER INFORMATION CONTACT: Dr. John Froeschke, Deputy Director and Emily Muehlstein, Public Information Officer, Gulf of Mexico Fishery Management Council; emily.muehlstein@gulfcouncil.org, telephone: (813) 348-1630. The Council's website, www.gulfcouncil.org.

SUPPLEMENTARY INFORMATION:

Tuesday, November 17, 2020; 6 p.m.-8 p.m., EST

Council staff will brief the public on the purpose and need of the amendment. The actions in the document will establish or modify Maximum Sustainable Yield (MSY) proxies, Maximum Fishing Mortality Threshold (MFMT), Minimum Stock Size Threshold (MSST), and Optimum Yield (OY) for reef fish stocks and red drum that are consistent with the Magnuson-Stevens Fishery Conservation and Management Act and the current National Standard 1 guidelines.

The meeting will be held via webinar. You may register for the webinar by visiting www.gulfcouncil.org and clicking on the meeting on the calendar. The agenda is subject to change, and the latest version along with other meeting materials will be posted on as they become available.

—Meeting Adjourns

The meeting will be broadcast via webinar. You may register for the listen-in access by visiting www.gulfcouncil.org and clicking on the AP meeting on the calendar.

The Agenda is subject to change, and the latest version along with other meeting materials will be posted on www.gulfcouncil.org as they become available.

Authority: 16 U.S.C. 1801 et seq.

Dated: October 26, 2020.
Tracey L. Thompson,
Acting Deputy Director, Office of Sustainable Fisheries, National Marine Fisheries Service.

[FR Doc. 2020-23955 Filed 10-28-20; 8:45 am]

BILLING CODE 3510-22-P